DEPARTMENT OF THE INTERIOR

National Park Service

[N6890; NPS-WASO-NAGPRA-NPS0041888; PPWOCRADN0-PCU00RP14.R50000]

Notice of Inventory Completion: Florida Department of State, Tallahassee, FL

AGENCY: National Park Service, Interior.

ACTION: Notice.

SUMMARY: In accordance with the Native American Graves Protection and Repatriation Act (NAGPRA), the Florida Department of State (FDOS) has completed an inventory of human remains and has determined that there is a cultural affiliation between the human remains and Indian Tribes or Native Hawaiian organizations in this notice.

DATES: Repatriation of the human remains in this notice may occur on or after February 26, 2026.

ADDRESSES: Send written requests for repatriation of the human remains in this notice to Tea Kaplan, Florida Department of State, 2100 W Tennessee Street, Tallahassee, FL 32304, email Tea.Kaplan@dos.fl.gov.

SUPPLEMENTARY INFORMATION: This notice is published as part of the National Park Service's administrative responsibilities under NAGPRA. The determinations in this notice are the sole responsibility of the FDOS, and additional information on the determinations in this notice, including the results of consultation, can be found in its inventory or related records. The National Park Service is not responsible for the determinations in this notice.

Abstract of Information Available

Human remains representing, at least, two individuals have been identified. No associated funerary objects are present. Ancestral remains were transferred to the Florida Department of State under 872.05, Florida Statutes from the Leon County Sheriff's Office, after they were discovered on the dry lakebed of Lake Jackson, Tallahassee, Florida. Initially, the remains were investigated as a medicolegal case by Law Enforcement, including isotopic analyses of radiocarbon and oxygen to determine age and origination. These analyses concluded that the remains were archaeological. An anonymous tip to the police further identified that the remains were archaeological, and were originally excavated from two unknown sites, one in Arkansas and one in Missouri by a private citizen. The anonymous tip specifically lists the Caddo Nation as the affiliated Tribe of these remains. Forensic isotopic data (collected as a part of the Law Enforcement investigation) further indicated that the remains originated from Arkansas and Missouri. No known hazardous substances are present.

Cultural Affiliation

Based on the information available and the results of consultation, cultural affiliation is reasonably identified by the geographical location or acquisition history of the human remains described in this notice.

Determinations

The FDOS has determined that:

• The human remains described in this notice represent the physical remains of two individuals of Native American ancestry.

• There is a connection between the human remains described in this notice and the Caddo Nation of Oklahoma.

Requests for Repatriation

Written requests for repatriation of the human remains in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or an Indian Tribe or Native Hawaiian organization with cultural affiliation.

Repatriation of the human remains described in this notice to a requestor may occur on or after February 26, 2026. If competing requests for repatriation are received, the FDOS must determine the most appropriate requestor prior to repatriation. Requests for joint repatriation of the human remains are considered a single request and not competing requests. The FDOS is responsible for sending a copy of this notice to the Indian Tribes and Native Hawaiian organizations identified in this notice.

Authority: Native American Graves Protection and Repatriation Act, 25 U.S.C. 3003, and the implementing regulations, 43 CFR 10.10.

Dated: January 15, 2026.
Melanie O'Brien,
Manager, National NAGPRA Program.

[FR Doc. 2026-01538 Filed 1-26-26; 8:45 am]

BILLING CODE 4312-52-P